DEPARTMENT OF COMMERCE

National Oceanic and Atmospheric Administration

[I.D 091500B]

Submission for OMB Review; Comment Request

The Department of Commerce has submitted to the Office of Management and Budget (OMB) for clearance the following proposal for collection of information under the provisions of the Paperwork Reduction Act (44 U.S.C. Chapter 35).

AGENCY: National Oceanic and Atmospheric Administration (NOAA).

Title: Northeast Region Sea Scallop Exemption Requirements.

Form Number(s): None.

OMB Approval Number: 0648-0416.

Type of Request: Regular submission.

Burden Hours: 2,950.

Number of Respondents:267.

Average Hours Per Response: 1 hour for installation of a Vessel Monitoring System (VMS), 5 minutes for verification of installation of a VMS unit, 2 minutes for a notification of intent to participate in an exemption program or to leave on a fishing trip, 10 minutes for a daily catch report, and 5 seconds for an automated position report from a VMS.

Needs and Uses: On June 13, 2000, NOAA obtained emergency clearance for information requirements associated with the New England Fishery Management Council’s Framework 13 to the Atlantic Sea Scallop Fishery Management Plan and Framework 34 to the Northeast Multispecies Fishery Management Plan. NOAA is seeking renewal of OMB approval for these requirements.

Participants in the Sea Scallop Exemption Program or similar exemption programs are subject to information requirements that include: installation of a VMS unit, submission of proof of such installation, notifications of intent to fish in an exemption area, notification at least 5 days before actually leaving on such a fishing trip, daily VMS reporting of catch, and automated position reports from the VMS.

Affected Public: Business and other for-profit organizations, individuals or households, not-for-profit institutions.

Frequency:On occasion, monthly, daily, and hourly.

Respondent's Obligation: Mandatory.

OMB Desk Officer:David Rostker, (202)

395-3897.

Copies of the above information collection proposal can be obtained by calling or writing Madeleine Clayton, DOC Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: September 14, 2000.
Madeleine Clayton,
Departmental Forms Clearance Officer, Office of the Chief Information Officer.

[FR Doc. 00-24300 Filed 9-20-00; 8:45am]

BILLING CODE 3510-22-S